DEPARTMENT OF THE INTERIOR

Fish and Wildlife Service

50 CFR Part 17

Endangered Species; Establishment of Manatee Protection Areas

AGENCY: Fish and Wildlife Service, Interior.

ACTION: Advance notice of proposed rulemaking and request for comments.

SUMMARY: The Fish and Wildlife Service (Service) is considering the preparation of a draft rule that would establish additional protection areas for the endangered West Indian manatee (Trichechus manatus latirostris) within the area of the species' range. These protection areas would be either refuges, areas where waterborne activities are restricted, or sanctuaries, areas where waterborne activities are prohibited. The Service is considering this action as a means to reduce the level of watercraft-related incidental take of manatees.

DATES: We must receive your comments regarding this proposed rulemaking on or before October 16, 2000.

ADDRESSES: Submit written comments to the Field Supervisor, Jacksonville Field Office, U.S. Fish and Wildlife Service, 6620 Southpoint Drive, South, Suite 310, Jacksonville, Florida 32216 or via electronic mail to fw4_es_jacksonville@fws.gov. Comments and materials received in response to this proposal will be available for public inspection at this address during normal working hours from 8 a.m. to 4:30 p.m., Monday through Friday.

FOR FURTHER INFORMATION CONTACT: Peter Benjamin, Jacksonville Field Office, U.S. Fish and Wildlife Service, 6620 Southpoint Drive, South, Suite 310, Jacksonville, Florida 32216, Telephone: (904) 232-2580 extension 106, Facsimile: (904) 232-2404, or Electronic Mail: fw4_es_jacksonville@fws.gov.

SUPPLEMENTARY INFORMATION: The establishment of protection areas for the Florida manatee is provided for under regulations promulgated under the Endangered Species Act (ESA), as amended in 1973 (16 U.S.C. 1531 et seq.), and published in Title 50 of the Code of Federal Regulations, Part 17, Subpart J. The Service may, by regulation issued in accordance with 5 U.S.C. 553 & 43 CFR part 14, establish manatee protection areas whenever there is substantial evidence showing such establishment is necessary to prevent the taking of one or more manatees (50 CFR 17.103). The ESA prohibits the taking of endangered species. “Take” as defined by the ESA means “to harass, harm, pursue, hunt, shoot, wound, kill, trap, capture, collect, or to attempt to engage in any such conduct.”

There are two types of manatee protection areas which may be established: manatee refuges and manatee sanctuaries. A manatee refuge, as defined in 50 CFR 17.102, is an area in which the Director has determined that certain waterborne activities would result in the taking of one or more manatees, or that certain waterborne activities must be restricted to prevent the taking of one or more manatees, including but not limited to a taking by harassment. The designation of an area as a refuge results in the restriction of waterborne access. A manatee sanctuary is an area in which the Director has determined that any waterborne activity would result in the taking of one or more manatees, including but not limited to a taking by harassment. The designation of an area as a sanctuary results in the prohibition of all waterborne activities. A waterborne activity is defined as including, but not limited to, swimming, diving (including skin and SCUBA diving), snorkeling, water skiing, surfing, fishing, the use of water vehicles and dredging and filling activities.

The Service proposes to evaluate the need for establishment of protection areas. The Service may subsequently establish such protection areas if and where warranted. Areas under consideration for possible designation as either refuges or sanctuaries include, but may not be limited to, areas of importance to manatees such as warm water refuges; areas used for feeding, mating, calving, resting, or traveling; areas with a high incidence of watercraft-related manatee mortality; and areas in which the Service determines that the current protection measures are inadequate.

Persons wishing to provide relevant information and comments regarding our evaluation of the need for manatee refuges and sanctuaries and the establishment of such protection areas should submit such comments in writing to the address above.

Our practice is to make comments we receive on this rulemaking, including names and home addresses of respondents, available for public review during regular business hours. Individual respondents may request that we withhold their home address from the rulemaking record, which we will honor to the extent allowable by law. There also may be circumstances in which we would withhold from the rulemaking a respondent's identity, as allowable by law. If you wish us to withhold your name and/or address, you must state this prominently at the beginning of your comments. However, we will not consider anonymous comments. We will make all submissions from organizations or businesses, and from individuals identifying themselves as representatives or officials of organizations or businesses, available for public inspection in their entirety.

Dated: August 24, 2000.
H. Dale Hall,
Acting Regional Director.

[FR Doc. 00-22422 Filed 8-31-00; 8:45 am]

BILLING CODE 4310-55-P